DEPARTMENT OF JUSTICE

Justice Programs Office

[OMB Number 1121-0259]

Agency Information Collection Activities; Proposed eCollection eComments Requested; Extension Without Change, of a Previously Approved Collection

AGENCY: Office of Justice Programs, Department of Justice.

ACTION: 60-Day notice.

SUMMARY: The Department of Justice, Office of Justice Programs, Bureau of Justice Assistance is submitting the following information collection request to the Office of Management and Budget (OMB) for review and approval in accordance with the Paperwork Reduction Act of 1995.

DATES: The Department of Justice encourages public comment and will accept input until June 6, 2022.

FOR FURTHER INFORMATION CONTACT: If you have additional comments especially on the estimated public burden or associated response time, suggestions, or need a copy of the proposed information collection instrument with instructions or additional information, please contact Gregory Joy, Policy Advisor, Office of Justice Programs, Bureau of Justice Assistance, 810 Seventh Street NW, Washington, DC 20531, Gregory.joy@usdoj.gov, 202-514-1369. Written comments and/or suggestions can also be sent to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the Bureau of Justice Assistance, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension, without change, of a currently approved collection.

2. The Title of the Form/Collection: Public Safety Officer Medal of Valor (Pub. L. 107-12).

3. The agency form number, if any, and the applicable component of the Department sponsoring the collection: The nomination process is managed through the internet, using the Office of Justice Programs' (OJP) MOV online nomination system at: https://www.bja.gov/programs/medalofvalor/index.html.

4. Affected public who will be asked or required to respond, as well as a brief abstract: The information that is being collected is solicited from federal, state, local and tribal public safety agencies, who wish to nominate their personnel to receive the Public Safety Officer Medal of Valor (MOV). This information is provided on a voluntary basis, includes agency and nominee information along with details about the events for which the nominees are to be consider when determining who will be recommended to receive the MOV.

5. An estimate of the total number of respondents and the amount of time estimated for an average respondent to respond: Over the last four application submission periods, (2014-2015 thru 2017-2018), there were a total of 550 nominations received. Taking this number into account, the average number of nominations that are anticipated to be received on an annual basis is 137.5. This number does not factor in the ongoing outreach efforts (e.g. marketing and social media outreach) that are intended to increase the number of annual submissions. In addition, it is projected that the application submission process takes approximately 25 minutes. This would include, reviewing the fields of required and optional information, arranging the information and populating the online application form.

6. An estimate of the total public burden (in hours) associated with the collection: Base upon the average number of submissions over the last 4 years, and the estimated time required to complete each submission, the estimated annual public burden would be 53.54 hours.

a. 137.5 × 25 minutes = 3,437.5 minutes/60 = 57.29 hours

If additional information is required contact: Melody Braswell, Department Clearance Officer, United States Department of Justice, Justice Management Division, Policy and Planning Staff, Two Constitution Square, 145 N Street NE, 3E.405A, Washington, DC 20530.

Dated: April 1, 2022.
Melody Braswell,
Department Clearance Officer for PRA, U.S. Department of Justice.

[FR Doc. 2022-07328 Filed 4-6-22; 8:45 am]

BILLING CODE 4410-18-P